DEPARTMENT OF TRANSPORTATION

Maritime Administration

[Docket No. MARAD-2000-6856]

Information Collection Available for Public Comments and Recommendations

ACTION: Notice and request for comments.

SUMMARY: In accordance with the Paperwork Reduction Act of 1995, this notice announces the Maritime Administration's (MARAD) intentions to request approval for three years of an existing information collection entitled “Determination of Fair and Reasonable Rates for the Carriage of Bulk and Packaged Cargoes on U.S.-flag Commercial Vessels.”

DATES: Comments should be submitted on or before April 10, 2000.

FOR FURTHER INFORMATION CONTACT: Thomas Olsen, Office of Financial and Rate Approvals, Maritime Administration, 400 Seventh Street, SW, Room 8117, Washington, DC 20590, telephone number—202-366-2313. Copies of this collection can also be obtained from that office.

SUPPLEMENTARY INFORMATION: Title of Collection: Determination of Fair and Reasonable Rates for the Carriage of Bulk and Packaged Cargoes on U.S.-flag Commercial Vessels.

Type of Request: Approval of an existing information collection.

OMB Control Number: 2133-0514.

Form Number: None.

Expiration Date of Approval: Three years from the date of approval.

Summary of Collection of Information: This collection of information requires U.S.-flag operators to submit vessel operating costs and capital costs data to MARAD officials on an annual basis. The costs are used by MARAD in determining fair and reasonable guideline rates for the carriage of preference cargoes on U.S.-flag vessels. In addition, U.S.-flag vessel operators are required to submit Post Voyage Reports to MARAD after completion of a cargo preference voyage.

Need and Use of the Information: The information collection is used by MARAD officials to calculate fair and reasonable rates for U.S.-flag vessels engaged in the carriage of preference cargoes.

Description of Respondents: U.S. citizens that own and/or operate U.S.-flag vessels.

Annual Responses: 160 responses.

Annual Burden: 640 hours.

Comments: Comments should refer to the docket number that appears at the top of this document. Written comments may be submitted to the Docket Clerk, U.S. DOT Dockets, Room PL-401, 400 Seventh Street, SW, Washington, DC 20590. Comments may also be submitted by electronic means via the Internet at http://dmses.dot.gov.submit. Specifically, address whether this information collection is necessary for proper performance of the function of the agency and will have practical utility, accuracy of the burden estimates, ways to minimize this burden, and ways to enhance quality, utility, and clarity of the information to be collected. All comments received will be available for examination at the above address between 10 a.m. and 5 p.m., et Monday through Friday, except Federal Holidays. An electronic version of this document is available on the World Wide Web at http://dms.dot.gov.

By Order of the Maritime Administrator.
Dated: February 2, 2000.
Joel C. Richard,
Secretary.

[FR Doc. 00-2749 Filed 2-7-00; 8:45 am]

BILLING CODE 4910-81-P